DEPARTMENT OF THE TREASURY

Internal Revenue Service

26 CFR Part 1

Net Investment Income Tax

CFR Correction

In Title 26 of the Code of Federal Regulations, Part 1 (§§ 1.1401 to 1.1550), revised as of April 1, 2018, on page 76, in § 1.1411-4, paragraph (d)(4)(i)(C) Example 2, paragraph (i), the second sentence is reinstated to read as follows:

§ 1.1411-4 Definition of net investment income.

* * * * *

(d) * * *

(4) * * *

(i) * * *

(C) * * *

Example 2. Installment sale. (i) * * * B and C, unmarried individuals, each own a 40% interest in PRS and both materially participate in the activities of PRS for all relevant years. * * *

* * * * *

[FR Doc. 2019-06256 Filed 3-28-19; 8:45 am]

BILLING CODE 1301-00-D